DEPARTMENT OF HOMELAND SECURITY

[Docket No. DHS-2019-0023]

Assessing the Risk-Mitigation Value of TWIC® at Maritime Facilities

AGENCY: Science and Technology Directorate, Department of Homeland Security.

ACTION: 30-Day notice of information collection; new request for comment.

SUMMARY: By law, the Secretary of Homeland Security is required to commission an assessment of how effective the transportation security card program is at enhancing security and reducing security risks for regulated maritime facilities and vessels. Through the transportation security card program, the Department issues the Transportation Worker Identification Credential (TWIC®). Legislation passed August 2, 2018 restricts the U.S. Coast Guard (USCG) from implementing any rule requiring the use of biometric readers for TWIC® until after submission to Congress of the results of this effectiveness assessment.

The Homeland Security Operational Analysis Center (HSOAC), a federally funded research and development center operated by the RAND Corporation, will collect information from those involved in maritime security on behalf of the DHS S&T Office of Innovation and Collaboration (OIC) Federally Funded Research and Development Center (FFRDC) Program Management Office. HSOAC will visit regulated maritime facilities and terminals and conduct interviews using a semi-structured interview method to collect information. HSOAC will analyze this information and use it to produce a public report with its research findings.

DATES: Comments are encouraged and accepted until March 11, 2020.

ADDRESSES: Interested persons are invited to submit written comments on this proposed information collection to the Office of Information and Regulatory Affairs, Office of Management and Budget. Comments should be addressed to the OMB Desk Officer, via electronic mail to dhsdeskofficer@omb.eop.gov.

FOR FURTHER INFORMATION CONTACT: DHS/S&T/OIC/FFRDC Program Manager: Scott Randels, or 202-254-6053 (Not a toll free number).

SUPPLEMENTARY INFORMATION: The Secretary of Homeland Security, pursuant to Public Law 114-278, is required to commission an assessment of how effective the transportation security card program is at enhancing security and reducing security risks for regulated maritime facilities and vessels. Through the transportation security card program, the Department issues the Transportation Worker Identification Credential (TWIC®). In addition, Public Law 115-230 restricts the USCG from implementing any rule requiring the use of biometric readers for TWIC® until submitting the results of this assessment to Congress.

DHS, in accordance with the Paperwork Reduction Act (PRA), 44 U.S.C. 3501 et seq., provides the general public and Federal agencies with an opportunity to comment on proposed, revised, and continuing collections of information. DHS is soliciting comments on the proposed information collection request (ICR) that is described below. DHS is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology? Please note that written comments received in response to this notice will be considered public records.

Title of Collection: Assessing the Risk-Mitigation Value of TWIC® at Maritime Facilities.

Type of Review: New.

Respondents/Affected Public: Port security subject matter experts such as Port Authority Security Managers, Facility Security Managers, Industry Security Managers, and local law enforcement; Labor, Other Industry Operation and Technology Managers.

Frequency of Collection: Once, Annually.

Average Burden per Response: 60 minutes.

Total Estimated Number of Annual Responses: 400.

Total Estimated Number of Annual Burden Hours: 400.

Dated: January 28, 2020.
Gregg Piermarini,
Director, Chief Information Office, Office of Enterprise Services Science and Technology Directorate.

[FR Doc. 2020-02529 Filed 2-7-20; 8:45 am]

BILLING CODE 9110-9F-P